DEPARTMENT OF HEALTH AND HUMAN SERVICES

Centers for Disease Control and Prevention

[60Day-21-21EX; Docket No. CDC-2021-0046]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled A Baseline of Injury and Psychosocial Stress for Applied Behavior Analysis Workers. The goal of this information collection is to better understand the work-related injuries and psychosocial stressors encountered by applied behavior analysis workers.

DATES: CDC must receive written comments on or before July 6, 2021.

ADDRESSES: You may submit comments, identified by Docket No. CDC-2021-0046 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

A Baseline of Injury and Psychosocial Stress for Applied Behavior Analysis Workers—New—National Institute for Occupational Safety and Health (NIOSH), Centers for Disease Control and Prevention (CDC).

Background and Brief Description

As mandated in the Occupational Safety and Health Act of 1970 (Pub. L. 91-596), the mission of NIOSH is to conduct research and investigations on occupational safety and health. This project will focus on obtaining a better understanding of the injuries sustained and psychosocial stressors experienced by applied behavior analysis workers. Applied behavior analysis is a principle intervention for increasing appropriate behaviors and decreasing inappropriate behaviors exhibited by children, adolescents, and adults with developmental disorders. As of August 2020, there were more than 120,000 applied behavior analysis workers credentialed by the Behavior Analysis Certification Board. Applied behavior analysis workers, which include Board Certified Behavior Analysts and Registered Behavior Technicians, are responsible for planning and implementing behavior-focused treatments in schools, clinics, homes, and hospitals.

There is no Standard Occupational Classification category for applied behavior analysis workers. The absence of an occupational category means that estimates of injury among this group are based on statistics from existing occupational groups and anecdotal evidence from practitioners. Applied behavior analysis workers are in a variety of occupational categories, but they often have job duties that make many of their experiences in the workplace distinct from other types of workers in those occupational categories. Whereas other healthcare workers usually take steps to mitigate violence in their work, applied behavior analysis workers are tasked with soliciting and then treating (i.e., confronting) disruptive behavior as part of behavioral treatments. In addition, applied behavior analysis workers often spend more time with clients than other types of workers: 25-40 hours per week of direct-contact services is common for a client.

Some applied behavior analysis workers are often in dangerous working environments, in homes and clinics, with clients who may sometimes behave unpredictably or aggressively. Despite these hazards and risks, and despite the growing number of behavior analysis workers nationally, there are no data on frequency and severity of injuries among this population of workers, and the only evidence is anecdotal in nature. The goal of the study is to collect data on the burden of work-related injuries among applied behavior analysis workers to begin to fill the gaps in the research and obtain a better understanding of the hazards and risks they encounter.

This study consists of a one-time, 10-minute survey targeted to credentialed applied behavior analysis workers. Survey respondents will include individuals currently credentialed by the Behavior Analysis Certification Board. This includes registered behavior technicians, board certified assistant behavior analysts, board certified behavior analysts, and board-certified behavior analysts—doctoral. The survey consists of questions related to demographics, organizational safety climate, injuries, safety training, and burnout. A brief message and a link to complete the online survey will be sent by email. The etiologic approach will provide data to assess important characteristics of the population; guide control measures; serve as a quantitative basis to define objectives and specific priorities; and inform the designing, planning, and evaluation of future interventions.

CDC requests approval for an estimated 4,000 annual burden hours. There are no costs to respondents other than their time.

Estimated Annualized Burden Hours
Type of respondents | Form name | Number of respondents | Number of responses per respondent | Average burden per response (in hours) | Total burden (in hours)
Board Certified Behavior Analysts | Survey | 7,680 | 1 | 10/60 | 1,280
Board Certified Assistant Behavior Analysts | Survey | 960 | 1 | 10/60 | 160
Registered Behavior Technicians | Survey | 15,360 | 1 | 10/60 | 2,560
Total |  |  |  |  | 4,000

Jeffrey M. Zirger,
Lead, Information Collection Review Office, Office of Scientific Integrity, Office of Science, Centers for Disease Control and Prevention.

[FR Doc. 2021-09732 Filed 5-6-21; 8:45 am]

BILLING CODE 4163-18-P